DEPARTMENT OF HOMELAND SECURITY

Coast Guard

[USCG-2004-19049]

Chemical Transportation Advisory Committee

AGENCY: Coast Guard, DHS.

ACTION: Notice of meeting.

SUMMARY: The Chemical Transportation Advisory Committee (CTAC) and its subcommittees will meet to discuss various issues relating to the marine transportation of hazardous materials in bulk.

DATES: CTAC will meet on Thursday, September 30, 2004, from 9 a.m. to 3:30 p.m. The Subcommittee on National Fire Protection Association 472 will meet on Wednesday, September 29, 2004 from 8:30 a.m. to 3 p.m. The Subcommittee on Hazardous Cargo Transportation Security will meet on Wednesday, September 29, 2004, from 3 p.m. to 4 p.m. These meetings may close early if all business is finished. Written material and requests to make oral presentations should reach the Coast Guard on or before September 23, 2004. Requests to have a copy of your material distributed to each member of the Committee should reach the Coast Guard on or before September 23, 2004.

ADDRESSES: CTAC will meet at U.S. Coast Guard Headquarters, 2100 Second Street, SW., Washington, DC, in room 2415. Both the Subcommittee on National Fire Protection Association 472 and Hazardous Cargo Transportation Security will meet at Department of Transportation Headquarters, Nassif Building, 400 7th Street, SW., Washington, DC, in room 4438/4440. Send written material and requests to make oral presentations to Commander Robert J. Hennessy, Executive Director of CTAC, Commandant (G-MSO-3), U.S. Coast Guard Headquarters, 2100 Second Street SW., Washington, DC 20593-0001 or e-mail: CTAC@comdt.uscg.mil. This notice is available on the Internet at http://dms.dot.gov.

FOR FURTHER INFORMATION CONTACT: Commander Robert J. Hennessy, Executive Director of CTAC, or Ms. Sara Ju, Assistant to the Executive Director, telephone 202-267-1217, fax 202-267-4570.

SUPPLEMENTARY INFORMATION: Notice of these meetings is given under the Federal Advisory Committee Act, 5 U.S.C. App. 2.

Agenda of the National Fire Protection Association 472 Subcommittee Meeting on September 29, 2004:

(1) Introduce Subcommittee members and attendees.

(2) Discuss results of meeting with the Technical Committee on Hazardous Materials Response Personnel of the National Fire Protection Association.

(3) Prepare draft chapter for possible incorporation of marine specific competencies into the National Fire Protection Association (NFPA) 472 Standard.

Agenda of the Hazardous Cargo Transportation Security Subcommittee Meeting on September 29, 2004:

(1) Introduce Subcommittee members and attendees.

(2) Discuss status of CTAC recommendations to the Coast Guard.

(3) Discuss future efforts of the Subcommittee.

Agenda of CTAC Meeting on Thursday, September 30, 2004:

(1) Introduce Committee members and attendees.

(2) Status report from the CTAC National Fire Protection Association 472 Subcommittee.

(3) Status report from CTAC Hazardous Cargo Transportation Security Subcommittee.

(4) Discussion of responsibilities and limitations of CTAC liaison to other advisory committees.

(5) Discussion of CTAC charter review workgroup.

(6) Presentation by CTAC reviewing recent marine casualties.

(7) Discussion of possible establishment of a new subcommittee on reviewing marine casualties.

(8) Presentation on security initiatives developed by the Deep Draft Facilitation Subcommittee of the Houston/Galveston Navigation Safety Advisory Committee.

(9) Presentation by the Coast Guard's Office of Port, Vessel, and Facility Security (G-MPS) on the status of the Maritime Transportation Security Act implementation.

(10) Presentation by the Coast Guard's Office of Hazardous Materials Standards (G-MSO-3) on the status of the benzene rulemaking.

Procedural

These meetings are open to the public. Please note that the meetings may close early if all business is finished. At the discretion of the Chair, members of the public may make oral presentations during the meetings. If you would like to make an oral presentation at a meeting, please notify the Executive Director and submit written material on or before September 23, 2004. If you would like a copy of your material distributed to each member of the Committee in advance of a meeting, please submit 25 copies to the Executive Director (see ADDRESSES) no later than September 23, 2004.

Information on Services for Individuals With Disabilities

For information on facilities or services for individuals with disabilities, or to request special assistance at the meeting, telephone the Executive Director as soon as possible.

Dated: September 1, 2004.
Joseph J. Angelo,
Director of Standards, Marine Safety, Security and Environmental Protection.

[FR Doc. 04-20546 Filed 9-10-04; 8:45 am]

BILLING CODE 4910-15-P